DEPARTMENT OF VETERANS AFFAIRS

Advisory Committee on Former Prisoners of War; Notice of Meeting

The Department of Veterans Affairs (VA) gives notice under Public Law 92-463 that a meeting of the Advisory Committee on Former Prisoners of War will be held on October 22-24, 2001, at the James A. Haley VA Medical Center, 13000 Bruce B. Downs Blvd., Bldg. 32, Room 101, Tampa, FL 33612. Each day the meeting will convene at 9:00 a.m. and end at 4:30 p.m. The meeting is open to the public.

The purpose of the committee is to advise the Secretary of Veterans Affairs on the administration of benefits under Title 38, United States Code, for veterans who are former prisoners of war, and to make recommendations on the needs of such veterans for compensation, health care and rehabilitation.

The agenda for October 22 will begin with an introduction of committee members and dignitaries, a review of Committee reports, an update of activities since the last meeting, and a period for POW veterans and/or the public to address the committee. The Committee will also discuss future plans for the VA POW Learning Seminars, and conclude with a report from the Special Panel on Presumptive Conditions. The agenda on October 23 will include a report on VA's Compensation and Pension Service activities, a discussion of VA's approval process for presumptive conditions, and a report on the activities of the Veterans Health Administration. The committee will also take up consideration of priority for POWs in Long-Term Health Care programs, and hear a report from the National Institute of Health Agency Follow-up on Morbidity and Mortality in Heart Disease and Stroke among former POWs. The session will conclude with a report from the Robert E. Mitchell Center for Prisoner of War Studies, followed by a general discussion. On October 24, the Committee's Medical and Administrative subcommittees will break out to discuss their activities and report back to the Committee.

Additionally, the Committee will review and analyze the comments discussed throughout the meeting for the purpose of assisting and compiling a final report to be sent to the Secretary.

Members of the public may direct questions or submit prepared statements for review by the Committee in advance of the meeting, in writing only, to Mr. Ronald J. Henke, Director, Compensation and Pension Service (21), Department of Veterans Affairs, 810 Vermont Avenue, NW., Washington, DC 20420. Submitted materials must be received by October 8, 2001. A report of the meeting and roster of Committee members may be obtained from Mr. Henke.

Dated: August 31, 2001.
By Direction of the Secretary.
Nora E. Egan,
Committee Management Officer.

[FR Doc. 01-22695 Filed 9-10-01; 8:45 am]

BILLING CODE 8320-01-M